DEPARTMENT OF ENERGY

Federal Energy Regulatory Commission

[Project No. 2530-057]

Brookfield White Pine Hydro LLC; Notice of Waiver Period for Water Quality Certification Application

On March 12, 2021, Brookfield White Pine Hydro LLC submitted to the Federal Energy Regulatory Commission (Commission) a copy of its application for a Clean Water Act section 401(a)(1) water quality certification filed with the Maine Department of Environmental Protection, in conjunction with the above captioned project. Pursuant to 40 CFR 121.6, we hereby notify the Maine Department of Environmental Protection of the following:

Date of Receipt of the Certification Request: March 12, 2021.

Reasonable Period of Time to Act on the Certification Request: One year.

Date Waiver Occurs for Failure to Act: March 14, 2022.¹

¹ The Commission's Rules of Practice and Procedure provide that, if a filing deadline falls on a Saturday, Sunday, holiday, or other day when the Commission is not open for business, the filing deadline does not end until the close of business on the next business day. 18 CFR 385.2007(a)(2) (2020). Because the end of the one-year time period falls on a Saturday (March 12, 2022), the period is extended until the close of business on Monday, March 14, 2022.

If the Maine Department of Environmental Protection fails or refuses to act on the water quality certification request by the above waiver date, then the agency certifying authority is deemed waived pursuant to section 401(a)(1) of the Clean Water Act, 33 U.S.C. 1341(a)(1).

Dated: June 17, 2021.
Kimberly D. Bose,
Secretary.

[FR Doc. 2021-13299 Filed 6-23-21; 8:45 am]

BILLING CODE 6717-01-P